DEPARTMENT OF HEALTH AND HUMAN SERVICES

Health Resources and Services Administration

Notice of Publication of a Draft of the Revised Guidebook for the National Practitioner Data Bank

AGENCY: Health Resources and Services Administration (HRSA), HHS.

ACTION: Notice of Publication of a Draft of the Revised Guidebook for the National Practitioner Data Bank.

SUMMARY: The National Practitioner Data Bank (NPDB) announces the release of a draft of the revised user Guidebook. The public is able to request a copy of the draft of the revised Guidebook and submit comments to the NPDB by the deadline below. The revised Guidebook includes expanded and improved reporting and querying examples; useful tables explaining Data Bank policies; and live links to statutes, regulations, and the Web site.

The NPDB is a confidential information clearinghouse created by Congress intended to facilitate a comprehensive review of the professional credentials of health care practitioners, health care entities, providers, and suppliers. The Guidebook is a policy manual that serves as an essential reference for Data Bank users to clarify legislative and regulatory requirements through the use of reporting and querying examples, explanations, definitions, and frequently asked questions (FAQs). The new Guidebook incorporates legislative and regulatory changes adopted since its last edition, including the merger of the NPDB with the Healthcare Integrity and Protection Data Bank. Once the comments have been reviewed, a final version of the revised Guidebook will be made available and will replace previous Guidebooks. For information on how to request a PDF copy of the draft Guidebook and instructions on how to submit comments, visit the NPDB Web site at: http://www.npdb.hrsa.gov/news/news.jsp.

DATES: Comments may be submitted through January 10, 2014. The comment period may be extended if needed. Information on any extensions of the review period will be posted on the Web site here: http://www.npdb.hrsa.gov/news/news.jsp.

FOR FURTHER INFORMATION CONTACT: Ernia P. Hughes, MBA, Acting Director of the Division of Practitioner Data Banks at: NPDBPolicy@hrsa.gov or 301-443-2300.

SUPPLEMENTARY INFORMATION: When submitting remarks, the NPDB requests that commenters:

• Reference the page number(s) each comment addresses; and

• Ensure comments are specific and relate to the clarity of the NPDB Guidebook's content, as regulatory or statutory concerns are beyond the scope of this comment process. Comments should be limited to content-based feedback that seeks to improve the examples and FAQs, clarify definitions, and eliminate ambiguity in the text. Comments that are not specific to content clarity and found beyond the scope of this review will not be addressed in this process.

Dated: December 19, 2013.
Mary K. Wakefield,
Administrator.

[FR Doc. 2013-31119 Filed 12-26-13; 8:45 am]

BILLING CODE 4165-15-P